ENVIRONMENTAL PROTECTION AGENCY

[ER-FRL-9060-4]

Environmental Impact Statements; Notice of Availability

Responsible Agency: Office of Federal Activities, General Information 202-564-5632 or https://www.epa.gov/nepa.

Weekly receipt of Environmental Impact Statements (EIS)

Filed January 10, 2022 10 a.m. EST Through January 14, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220006, Final, NMFS, ME, Amendment 23 to the Northeast Multispecies Fishery Management Plan, Review Period Ends: 02/22/2022, Contact: Mark Grant 978-281-9145.

Amended Notice

EIS No. 20210179, Draft, Caltrans, CA, Cajalco Road Widening and Safety Enhancement Project, Comment Period Ends: 03/03/2022, Contact: Aaron Burton 909-383-2841. Revision to FR Notice Published 12/03/2021; Extending the Comment Period from 01/18/2022 to 03/03/2022.

Dated: January 14, 2022.
Cindy S. Barger,
Director, NEPA Compliance Division, Office of Federal Activities.

[FR Doc. 2022-01149 Filed 1-20-22; 8:45 am]

BILLING CODE 6560-50-P